DEPARTMENT OF TRANSPORTATION

Federal Highway Administration

Environmental Impact Statement: Calvert and St. Mary's Counties, Maryland

AGENCY: Federal Highway Administration (FHWA), DOT.

ACTION: Notice of intent.

SUMMARY: The FHWA is issuing this notice to advise the public that an Environmental Impact Statement will be prepared for a proposed roadway widening and bridge replacement project in Calvert and St. Mary's Counties, Maryland. The purpose of the EIS is to provide information and analyses for decisions on the project in accordance with the policies and purposes of the National Environmental Policy Act.

FOR FURTHER INFORMATION CONTACT: Mr. Daniel W. Johnson, Environmental Program Manager, Federal Highway Administration, City Crescent Building, 10 South Howard Street, Suite 2450, Telephone (410) 779-7154.

SUPPLEMENTARY INFORMATION: The FHWA, in cooperation with the Maryland State Highway Administration, U.S. Army Corps of Engineers, U.S. Environmental Protection Agency, U.S. Coast Guard, and Maryland Department of the Environment will prepare an environmental impact statement (EIS) to improve MD 4 from MD 2 to MD 235 in Calvert and St. Mary's Counties, a distance of approximately 2.91 miles.

Improvements to the corridor are necessary to improve existing capacity and traffic operations, and to increase vehicular, pedestrian and bicycle safety along MD 4, while supporting existing and planned development in the area. Improvements to the bridge are necessary due to inadequate shoulder widths, major traffic delays and/or closures currently occur along the Thomas Johnson Memorial Bridge during crashes and maintenance activities. In addition, the crash rate on MD 4 from FDR Boulevard to MD 235, as well as the rear end collision rate across the Thomas Johnson Memorial Bridge, is greater than the statewide average.

Alternatives under consideration include taking no action and widening existing MD 4 to a four lane divided highway, with various options for bridge improvements and/or reconstruction.

Letters describing the proposed action and soliciting comments will be sent to appropriate Federal, State, and local agencies, and to private organizations and citizens and citizen groups who have previously expressed or are known to have an interest in this proposal. It is anticipated that a Public Hearing will be held in the Fall of 2009. The draft EIS will be available for public and agency review and comment prior to a Public Hearing. Public notice will be given of the availability of the Draft EIS for review and of the time and place of this hearing. A Scoping Meeting was held in May of 2007, and two Open House Workshops will be held in October 2007 to solicit opinions and ideas on proposed improvements from local citizens.

To ensure that the full range of issues related to this proposed action are addressed and all significant issues identified, comments and suggestions are invited from all interested parties. Comments or questions concerning these proposed actions and EIS should be directed to the FHWA at the address provided above.

(Catalog of Federal Domestic Assistance Program Number 20.205, Highway Research, Planning and Construction. The regulation implementing Executive Order 12372 regarding intergovernmental consultation of Federal programs and activities apply to this program)

Issued on: October 10, 2007.
Daniel W. Johnson,
Environmental Program Leader, Baltimore, Maryland.

[FR Doc. 07-5190 Filed 10-19-07; 8:45 am]

BILLING CODE 4910-22-M